SMALL BUSINESS ADMINISTRATION

[Declaration of Disaster #3460]

State of Alabama

Henry County and the contiguous counties of Barbour, Dale and Houston in the State of Alabama; and Clay, Early and Quitman in the State of Georgia constitute a disaster area due to damages caused by severe storms and tornadoes on November 5, 2002. Applications for loans for physical damage as a result of this disaster may be filed until the close of business on January 13, 2003 and for economic injury until the close of business on August 13, 2003 at the address listed below or other locally announced locations:

U.S. Small Business Administration, Disaster Area 2 Office, One Baltimore Place, Suite 300, Atlanta, GA 30308.

The interest rates are:

| Percent
For Physical Damage:
Homeowners with credit available elsewhere | 5.875
Homeowners without credit available elsewhere | 2.937
Businesses with credit available elsewhere | 6.648
Businesses and non-profit organizations without credit available elsewhere | 3.324
Others (including non-profit organizations) with credit available elsewhere | 5.500
For Economic Injury:
Businesses and small agricultural cooperatives without credit available elsewhere | 3.324

The number assigned to this disaster for physical damage is 346011 for Alabama and 346111 for Georgia. The number assigned to this disaster for economic injury is 9S4900 for Alabama and 9S5000 for Georgia.

(Catalog of Federal Domestic Assistance Program Nos. 59002 and 59008)
Dated: November 13, 2002.
Melanie R. Sabelhaus,
Acting Administrator.

[FR Doc. 02-29271 Filed 11-18-02; 8:45 am]

BILLING CODE 8025-01-P